DEPARTMENT OF ENERGY

Federal Energy Regulatory Commission

[Docket No. CP21-463-000]

Texas Eastern Transmission, LP Notice of Schedule for the Preparation of an Environmental Assessment for the Holbrook Compressor Units Replacement Project

On June 17, 2021, Texas Eastern Transmission, LP (Texas Eastern) filed an application in Docket No. CP21-463-000 requesting authorization and a Certificate of Public Convenience and Necessity pursuant to Sections 7(b) and 7(c) of the Natural Gas Act to abandon certain natural gas facilities, and construct, operate, and maintain certain natural gas facilities. The proposed project is known as the Holbrook Compressor Station Replacement Project (Project). Texas Eastern is requesting authorization to abandon twelve existing reciprocating compressor units installed in the 1950s at its Holbrook Compressor Station in Greene County, Pennsylvania, and replace them with two new, more efficient gas turbines.

On July 2, 2021, the Federal Energy Regulatory Commission (FERC or Commission) issued its Notice of Application for the Project. Among other things, that notice alerted other agencies issuing federal authorizations of the requirement to complete all necessary reviews and to reach a final decision on the request for a federal authorization within 90 days of the date of issuance of the Commission staff's environmental document for the Project. This notice identifies the Commission staff's intention to prepare an environmental assessment (EA) for the Project and the planned schedule for completion of the environmental review.¹

¹ 40 CFR 1501.10 (2020)

Schedule for Environmental Review

Issuance of EA—May 12, 2022

90-day Federal Authorization Decision Deadline ²—August 10, 2022

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary for the EA, an additional notice will be provided so that the relevant agencies are kept informed of the Project's progress.

Project Description

Texas Eastern proposes to abandon-in-place eight existing 1,350-horsepower natural gas engine-compressor units and four 2,000-horsepower compressor units that were installed in the 1950s. To replace them, Texas Eastern proposes to install two new 9,676-horsepower Solar Taurus 70 natural gas-fired compressor units, software controls, and associated auxiliary piping and equipment within a new 8,500-square-foot building.

Background

On October 1, 2021, the Commission issued a Notice of Scoping Period Requesting Comments on Environmental Issues for the Proposed Holbrook Compressor Station Units Replacement Project (Notice of Scoping). The Notice of Scoping was sent to federal, state, and local government agencies; elected officials; affected landowners; environmental and public interest groups; potentially interested Indian tribes and regional organizations; commentors and other interested parties; and local libraries and newspapers. In response to the Notice of Scoping, the Commission received comments from the U.S. Environmental Protection Agency, Region 3, concerning the Project purpose and need, alternatives, climate change, environmental justice, and cumulative impacts. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” (i.e., CP21-463), and follow the instructions. For assistance with access to eLibrary, the helpline can be reached at (866) 208-3676,

TTY (202) 502-8659, or at FERCOnlineSupport@ferc.gov. The eLibrary link on the FERC website also provides access to the texts of formal documents issued by the Commission, such as orders, notices, and rule makings.

Dated: January 28, 2022.
Kimberly D. Bose,
Secretary.

[FR Doc. 2022-02219 Filed 2-2-22; 8:45 am]

BILLING CODE 6717-01-P